ENVIRONMENTAL PROTECTION AGENCY

[EPA-HQ-OPP-2020-0306; FRL-10011-30]

Petition To Revoke All Neonicotinoid Tolerances; Notice of Availability

AGENCY: Environmental Protection Agency (EPA).

ACTION: Notice.

SUMMARY: EPA seeks public comment on a May 4, 2020 petition by the Natural Resources Defense Council (NRDC) requesting that the Agency revoke all tolerances for residues of the neonicotinoid pesticides acetamiprid, clothianidin, dinotefuran, imidacloprid, and thiamethoxam. The petitioners claim that the underlying analysis supporting these tolerances are flawed and that proper consideration of available data demonstrates that the tolerances are not safe and must be revoked. A copy of the petition is available at regulations.gov in docket ID EPA-HQ-OPP-2020-0306.

DATES: Comments must be received on or before August 31, 2020.

ADDRESSES: Submit your comments, identified by docket identification (ID) number EPA-HQ-OPP-2020-0306, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: Jonathan Williams, Pesticide Re-Evaluation Division (7508P), Office of Pesticide Programs, Environmental Protection Agency, 1200 Pennsylvania Ave. NW, Washington, DC 20460-0001; telephone number: (703)-347-0670; email address: williams.jonathanr@epa.gov.

SUPPLEMENTARY INFORMATION:

I. General Information

A. Does this action apply to me?

This action is directed to the public in general and may be of interest to those involved with pesticide manufacture, sale, or use; to a member or affiliate of an agricultural trade or interest group, an environmental interest group, or a public health interest group; to federal, state, or local regulatory partners; or to a member of the general public interested in the manufacture, sale, or use of pesticides (including neonicotinoids). Given the broad interest, the Agency has not attempted to identify or describe all the specific entities that may be affected by this action.

The following list of North American Industry Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to the complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

C. How can I get copies of this document and other related information?

A copy of the NRDC's Petition memorandum, RE: Petition to Revoke All Neonic Tolerances and Comments Regarding Dietary Exposure, is available in the docket under docket identification (ID) number EPA-HQ-OPP-2020-0306.

II. What action is the Agency taking?

EPA seeks public comment during the next [30] days on a petition (available in docket number EPA-HQ-OPP-2020-0306) received from the NRDC requesting that the Agency revoke all tolerances for residues of the neonicotinoid pesticides acetamiprid, clothianidin, dinotefuran, imidacloprid, and thiamethoxam. The petition was submitted under section 408(d) of the Federal Food, Drug, and Cosmetic Act, 21 U.S.C. 346a(d). The petitioners claim that the existing tolerances are not safe and must be revoked due to several flaws in EPA's analysis of neonicotinoid toxicity and exposure when conducting its human health risk and drinking water assessments for these pesticides. The petitioners claim that EPA failed to use the most sensitive endpoint and appropriate uncertainty factors, including the full 10x children's safety factor, in not considering the potential for developmental effects in children from neonicotinoid exposure and evidence of toxic effects at low exposure levels; failed to assess the potential for cumulative toxicity from exposure to multiple neonicotinoids; failed to assess the aggregate toxicity of neonicotinoids and other chemicals resulting from interactions between neonicotinoids and chemicals used in drinking water sanitation; and failed to consider risks to highly-exposed individuals in the acute dietary risk assessment. The petitioners therefore contend that the established tolerances are not conservative enough to protect the general population, and children, from exposure to toxic amounts of neonicotinoids in food.

EPA's human health and drinking water risk assessments the neonicotinoids are contained in the dockets for each of the respective registration review cases, listed here:

• Acetamiprid: EPA-HQ-OPP-2012-0329.

• Clothianidin: EPA-HQ-OPP-2011-0865.

• Dinotefuran: EPA-HQ-OPP-2011-0920.

• Imidacloprid: EPA-HQ-OPP-2008-0844.

• Thiamethoxam: EPA-HQ-OPP-2011-0581.

Authority: 21 U.S.C. 346a.

Dated: July 21, 2020.
Mary Reaves,
Acting Director, Pesticide Re-Evaluation Division, Office of Pesticide Programs.

[FR Doc. 2020-16454 Filed 7-29-20; 8:45 am]

BILLING CODE 6560-50-P